FEDERAL COMMUNICATIONS COMMISSION

47 CFR Part 54

[CC Docket No. 96-45; FCC 00-428]

Federal-State Joint Board on Universal Service

AGENCY: Federal Communications Commission.

ACTION: Notice of proposed rule.

SUMMARY: In this document, the Commission seeks comment on the narrow issue of whether to continue to apply certain sections of the Commission's rules to transfers of telephone exchanges between non-rural carriers following the phase-down of the interim hold-harmless support.

DATES: Comments are due on or before January 17, 2001, and reply comments are due on or before February 1, 2001.

ADDRESSES: All filings must be sent to the Commission's Secretary, Magalie Roman Salas, Office of the Secretary, Federal Communications Commission, 445 12th Street, SW., Washington, DC 20554. Parties also should send three paper copies of their filing to Sheryl Todd, Accounting Policy Division, Common Carrier Bureau, Federal Communications Commission, 445 Twelfth Street, SW., Room 5-B540, Washington, DC 20554.

FOR FURTHER INFORMATION CONTACT: William Scher, Attorney, Common Carrier Bureau, Accounting Policy Division, (202) 418-7400.

SUPPLEMENTARY INFORMATION: This is a summary of the Commission's Further Notice of Proposed Rulemaking in CC Docket No. 96-45 released on December 8, 2000. This is a companion to the Commission's Thirteenth Report and Order in CC Docket No. 96-45 also released December 8, 2000. The full text of this document is available for public inspection during regular business hours in the FCC Reference Center, Room CY-A257, 445 Twelfth Street, SW., Washington, DC 20554.

I. Introduction

1. In this Further Notice of Proposed Rulemaking (FNPRM), we seek comment on the narrow issue of whether to continue to apply § 54.305 of the Commission's rules to transfers of telephone exchanges between non-rural carriers following the phase-down of interim hold-harmless support for non-rural carriers, as provided for in the Commission's companion Thirteenth Report and Order in CC Docket No. 96-45 released on December 8, 2000. Section 54.305 requires a carrier that acquires an exchange to step into the seller's shoes for universal service support purposes. The Commission adopted the rule in 1997 as a stopgap measure to prevent carriers receiving support based on the size of their study areas and embedded costs from “placing unreasonable reliance upon potential universal service support in deciding whether to purchase exchanges[.]” Because all non-rural carriers will receive support based on forward-looking economic costs following the phase-down of interim hold-harmless support, we believe that the need for § 54.305 would no longer exist with regard to transfers between non-rural carriers once the phase-down is complete.

II. Further Notice of Proposed Rulemaking

2. Following the phase-down of interim hold-harmless support, all non-rural carriers will receive high-cost support based on the forward-looking economic costs of operating a given exchange. As a result, “the level of support will not be a primary factor in a [non-rural] carrier's decision to purchase exchanges because the carrier's support will not be based on the size of the study area nor embedded costs.” We believe this rule change is necessary regardless of the outcome of the current Federal-State Joint Board on Universal Service examination of the Rural Task Force Recommendation on § 54.305, because application of § 54.305 to transfers between non-rural carriers may impede operation of the forward-looking mechanism by preventing calculation of the forward-looking economic costs of operating a transferred exchange on an ongoing, quarterly basis. We, therefore, seek comment on whether to amend § 54.305 of our rules so that it does not apply to transfers of exchanges between non-rural carriers following the phase-down of interim hold-harmless support.

III. Procedural Matters

a. Regulatory Flexibility Act Certifications—Final and Initial

3. The Regulatory Flexibility Act (RFA) requires an Initial Regulatory Flexibility Analysis (IRFA) of the possible significant economic impact on small entities of proposed policies and rules, and a Final Regulatory Flexibility Analysis (FRFA) whenever an agency subsequently promulgates a final rule, unless the agency certifies that the proposed or final rule will not have “a significant economic impact on a substantial number of small entities,” and includes the factual basis for such certification. The RFA generally defines “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). The SBA defines a small telecommunications entity in Standard Industrial Classification Code 4813 (Telephone Communications, Except Radiotelephone) as an entity with 1,500 or fewer employees.

4. We conclude that an IRFA is not required here. The foregoing Further Notice of Proposed Rulemaking proposes a rule change. The proposed rules affect the amount of high-cost support provided to non-rural carriers. Non-rural carriers generally do not fall within the SBA's definition of a small business concern because they are usually large corporations or affiliates of such corporations. Thus, the rules proposed here do not affect a substantial number of small entities. Therefore, we certify, pursuant to section 605(b) of the RFA, that the rule change proposed in the Further Notice of Proposed Rulemaking will not have a significant economic impact on a substantial number of small entities. The Commission will send a copy of the Further Notice of Proposed Rulemaking and of this certification to the Chief Counsel for Advocacy of the SBA. In addition, this certification will be published in the Federal Register. The Commission will send a copy of this Further Notice of Proposed Rulemaking, including a copy of this certification, in a report to Congress pursuant to the SBREFA.

b. Paperwork Reduction Act

5. The instant Further Notice of Proposed Rulemaking proposes no information collections.

c. Comment Filing Procedure

6. Pursuant to §§ 1.415 and 1.419 of the Commission's rules, interested parties may file comments on or before January 17, 2001, and reply comments on or before February 1, 2001. Comments may be filed using the Commission's Electronic Comment Filing System (ECFS) or by filing paper copies. See Electronic Filing of Documents in Rulemaking Proceedings, 63 FR 24121, May 1, 1998.

7. Comments filed through the ECFS can be sent as an electronic file via the Internet to http://www.fcc.gov/e-file/ecfs.html. Only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. In addition, parties who choose to file by paper must send diskette copies to the Commission's copy contractor, International Transcription Service, Inc., 1231 20th Street, NW., Washington, DC 20037.

IV. Ordering Clauses

21. Pursuant to the authority contained in sections 1-4, 201-205, 214, 218-220, 254, 303(r), 403, and 410 of the Communications Act of 1934, as amended, this Further Notice of Proposed Rulemaking is adopted and comments are requested as described.

22. The Commission's Consumer Information Bureau, Reference Information Center, shall send a copy of the Further Notice of Proposed Rulemaking, including the Regulatory Flexibility Act Certifications, to the Chief Counsel for Advocacy of the Small Business Administration.

List of Subjects in 47 CFR Part 54

Reporting and recordkeeping requirements, Telecommunications, Telephone.

Federal Communications Commission.
Magalie Roman Salas,
Secretary.

[FR Doc. 00-32072 Filed 12-15-00; 8:45 am]

BILLING CODE 6712-01-U